DEPARTMENT OF ENERGY

Federal Energy Regulatory Commission

Notice of Staff Attendance at North American Electric Reliability Corporation Emerging Large Loads Technical Conference

The Federal Energy Regulatory Commission (Commission) hereby gives notice that members of the Commission and/or Commission staff may attend the following conference meeting:

North American Electric Reliability Corporation Emerging Large Loads Technical Conference

February 24-25, 2026 | 8:00 a.m.-5:00 p.m. Eastern

Further information regarding this meeting and how to join remotely may be found at: https://www.nerc.com/events/02-24-26-emerging-large-loads-technical-conference.

The discussions at the meeting, which are open to the public, may address matters at issue in the following Commission proceedings:

Docket No. EC25-43 Constellation Energy Corporation, Constellation Energy Generation, LLC, Calpine Corporation

Docket No. EC25-148 Hill Top Energy Center, LLC, Hill Top Energy LLC

Docket No. EL24-149 Baltimore Gas & Electric Company and PECO Energy Company

Docket Nos. EL25-49 PJM Interconnection, L.L.C., et al.

AD24-11 Large Loads Co-Located at Generating Facilities

EL25-20 Constellation Energy Generation, LLC v. PJM Interconnection, L.L.C.

Docket No. EL26-30 Independent Market Monitor for PJM v. PJM Interconnection, L.L.C.

Docket No. ER26-247 Southwest Power Pool, Inc.

Docket No. ER26-838 Commonwealth Edison Company

Docket No. ER26-839 Commonwealth Edison Company

Docket No. ER26-841 Commonwealth Edison Company

Docket No. ER26-853 Commonwealth Edison Company

Docket No. ER26-989 Commonwealth Edison Company

Docket No. ER26-990 Commonwealth Edison Company

Docket No. ER26-1031 Commonwealth Edison Company

Docket No. ER26-1032 Commonwealth Edison Company

For further information, please contact Neil Yallabandi at (202) 502-8260 or Neil.Yallabandi@ferc.gov.

(Authority: 18 CFR 2.1.)

Dated: February 13, 2026.
Carlos D. Clay,
Deputy Secretary.

[FR Doc. 2026-03321 Filed 2-19-26; 8:45 am]

BILLING CODE 6717-01-P